DEPARTMENT OF AGRICULTURE

Submission for OMB Review; Comment Request

March 28, 2011.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Nectarines and Peaches Grown in California.

OMB Control Number: 0581-NEW.

Summary of Collection: Federal marketing orders and agreements are authorized by the Agricultural Marketing Agreement Act of 1937 (7 U.S.C. 601-674; Act). Order regulations help ensure adequate supplies of high quality product and adequate returns to producers. Regulations may determine the products' grade, size and quality; inspection requirements; set container and pack requirements; pooling and volume; and authorize research and market development projects. The Federal programs for nectarines and peaches are administered through a partnership between USDA and the California Tree Fruit Agreement (CTFA). The Nectarine Commodity Committee and the Peach Commodity Committee make up the CTFA.

Need and Use of the Information: The Agricultural Marketing Service will use five new forms “Daily Pack-out Report,” “Grower Report,” “Peach Shipment Report,” “Nectarine Shipment Report,” and “Export Peach Destination Report,” to facilitate the collection of industry information for the committees. The information collection requirements are essential to carry out the intent of the Act, to provide the respondents the type of service they request, and to administer the marketing order programs.

Description of Respondents: Business for profit; farms.

Number of Respondents: 97.

Frequency of Responses: Reporting: On occasion; weekly; quarterly; recordkeeping.

Total Burden Hours: 5,498.

Agricultural Marketing Service

Title: Livestock & Meat Market News.

OMB Control Number: 0581-0154.

Summary of Collection: The Agricultural Marketing Act of 1946 (7 U.S.C. 1621), Section 203(q), directs and authorizes the collection and dissemination of marketing information including adequate outlook information, on a market area basis, for the purpose of anticipating and meeting consumer requirements aiding in the maintenance of farm income and to bring about a balance between production and utilization. Livestock and Meat Market News provides a timely exchange of accurate and unbiased information on current marketing conditions affecting trade in livestock, meats, grain, and wool. Administered by the U.S. Department of Agriculture's Agricultural Marketing Service (AMS), this nationwide market news program is conducted in cooperation with approximately 27 States departments of agriculture. AMS will collect information using market reports.

Need and Use of the Information: The information provided by respondents initiates market news reporting, which must be timely accurate, unbiased, and continuous if it is to be meaningful to the industry. AMS will collect information on price, supply, demand, trends, movement, and other information of livestock, meat carcasses, meat and pork cuts, and meat byproducts. Several agencies, agricultural universities and college use the information collected to keep appraised of the current market conditions, movement of livestock and meat in the United States and to determine available supplies and current pricing.

Description of Respondents: Business or other for-profit; individuals or households.

Number of Respondents: 990.

Frequency of Responses: Reporting: Weekly; other (daily).

Total Burden Hours: 10,391.

Agricultural Marketing Service

Title: Pistachios Grown in California, Arizona and New Mexico.

OMB Control Number: 0581-0215.

Summary of Collection: The Pistachio Marketing Order, (7 CFR part 983), covering pistachios grown in California, Arizona and New Mexico is established and regulated under the Agricultural Marketing Agreement Act of 1937, Secs. 1-19, 48 Stat. 31, as amended, (7 U.S.C. 601-674), herein referred to as the Act. The order regulates the handling of pistachios, authorizes grade and size requirements, as well as a requirement for aflatoxin testing on domestic shipments only. The Secretary is authorized to oversee the order operations and issue regulations recommended by representatives from the Pistachio Committee.

Need and Use of the Information: The Agricultural Marketing Service has developed forms as a convenience for handlers and producers who are required to file certain information with the Committee relating to pistachio supplies, shipments, dispositions, and other information needed to effectively implement the requirements of the order and carry out the purposes of the Act. Collecting data less frequently would eliminate the Secretary's ability to administer the order.

Description of Respondents: Business or other for profit; farms.

Number of Respondents: 920.

Frequency of Responses: Reporting: On occasion; weekly; monthly; quarterly; annually.

Total Burden Hours: 432.

Agricultural Marketing Service

Title: USDA Farmers Market Application.

OMB Control Number: 0581-0229.

Summary of Collection: The Agricultural Marketing Act of 1946 (7 U.S.C. 1622(n) authorizes the Secretary to conduct services and to perform activities that will facilitate the marketing and utilization of agricultural products through commercial channels. The Agricultural Marketing Service (AMS) is authorized to implement established regulations and procedures under 7 CFR part 170 for AMS to operate the U.S. Department of Agriculture (USDA) Farmers Market, specify vendor criteria and selection procedures, and define guidelines to be used for governing the USDA Farmers Market annually. Information will be collected on form TM-28, “USDA Farmers Market Application.”

Need and Use of the Information: The application was developed to ensure a uniform and fair process for deciding which farm operations are allowed to participate in the market, as well as ensure diversity of product for consumers. AMS will collect information to review the type of products available for sale and selecting participants for the annual market season. The information collected consists of (1) Certification that the applicant is the owner or a representative of the farm or business; (2) name(s), address, telephone number and email address; (3) farm or business location; (4) types of products grown; (5) business practices; and (6) insurance coverage.

Description of Respondents: Business or other for-profit; farms.

Number of Respondents: 30.

Frequency of Responses: Reporting: Annually.

Total Burden Hours: 4.

Charlene Parker,
Departmental Information Collection Clearance Officer.

[FR Doc. 2011-7647 Filed 3-31-11; 8:45 am]

BILLING CODE 3410-02-P